DEPARTMENT OF AGRICULTURE

Forest Service

Plantation Fuel Reduction, Eldorado National Forest, El Dorado County, CA

AGENCY: Forest Service, USDA.

ACTION: Notice of intent to prepare an environmental impact statement.

SUMMARY: The USDA, Forest Service, Eldorado National Forest will prepare an environmental impact statement (EIS) for a proposal to treat approximately 4,637 acres of selected plantations on the Georgetown and Pacific Ranger Districts. The proposal will involve mechanical precommercial thinning and control of competitive vegetation using mechanical and chemical treatments.

DATES: Comments concerning the scope of the analysis must be received by November 3, 2006. The draft environmental impact statement is expected in January 2007 and the final environmental impact statement is expected May 2007.

ADDRESSES: Send written comments to Tim Dabney, District Ranger, Georgetown Ranger District, 7600 Wentworth Springs Road, Georgetown, CA 95634, Attention: Plantation Fuel Reduction Project.

FOR FURTHER INFORMATION CONTACT: Tim Howard, Project Leader, Georgetown Ranger Station, 7600 Wentworth Springs Road, Georgetown, CA 95634, or by telephone at 530-333-4312 or by e-mail at thoward@fs.fed.us.

SUPPLEMENTARY INFORMATION:

Purpose and Need for Action

It is the purpose of the Plantation Fuel Reduction Project to begin the process of enhancing forest health, vigor, growth, resilience to fire, and sustainability of the desired vegetation of the plantations, and thereby improve, maintain, and perpetuate the other dependent resources as directed in the Eldorado Forest Land and Resource Management Plan (LRMP) as amended by the Sierra Nevada Forest Plan Amendment, 2004 (SNFPA).

The specific purpose and need of the Proposed Action is to: Reduce present and future fuel loads; alter the vegetative structure in plantations to reduce the risk of loss to wildland fire by maintaining flame lengths below six feet (four feet in defense and threat zones); reduce rate of spread and increase the fire line production rates; maintain the effectiveness of fuel treatments for more than five years; improve forest health, and, maintain valuable wildlife habitat and to create conditions that accelerate the development of old forest characteristics.

Proposed Action

The Georgetown and Pacific Ranger Districts propose precommercial thinning and control of competitive vegetation using mechanical and chemical treatments of vegetation on approximately 4,637 acres of selected conifer plantations about 20 air miles north and east of Placerville, California on the Eldorado National Forest in El Dorado County. The legal description is: T.11N., R.11E.; T.11N., R.13E; T.11N.; R.14E; T.11N., R.15E; T.12N., R.11E.; T12N., R.13E.; T.12N., R14E.; T.12N., R.15E.; T13N., R.11E.; T.13N., R.12E.; T.13N., R.13E.; T.13N., R.14E.; T.13N., R.15E.; T.14N., R.12E.; T.14N., R.13E.; and, T.14N., R.14E. The project proposal would involve the following timber stand improvement activities: (1) Mechanical mastication treatment of approximately 3,039 acres using low ground pressure equipment to flail or “masticate” undesirable vegetation and conifers. Follow-up chemical treatment with ground-based application of herbicides (2,738 acres of foliar treatment using a 3% glyphosate solution and 301 acres of foliar treatment using a 1.5% triclopyr solution) within one year following the completion of mechanical mastication activities. (2) Hand cut treatment of approximately 136 acres using hand tools. Follow-up chemical treatment with ground-based application of herbicides (136 acres of foliar treatment using a 3% glyphosate solution) within one year following the completion of hand cutting activities. (3) Chemical treatment of approximately 1,462 acres (1,193 acres of foliar treatment using a 3% glyphosate solution and 269 acres of foliar treatment using a 1.5% triclopyr solution). Follow-up chemical treatment (1,193 acres of foliar treatment using a 3% glyphosate solution and 269 acres of foliar treatment using a 1.5% triclopyr solution), if necessary, three to five years after the initial treatment.

The proposed project activities would begin in 2007 and with the goal of being completed by 2015, dependent upon funding.

Lead and Cooperating Agencies

The lead agency will be the U.S.D.A. Forest Service.

Responsible Official

Tim Dabney, Georgetown District Ranger is the responsible Official. As the responsible official he will document the decision and reasons for the decision in the Record of Decision. That decision will be subject to Forest Service appeal regulations (36 CFR Part 215).

Nature of Decision To Be Made

The decision to be made is whether to adopt and implement the proposed action, an alternative to the proposed action, or take no action to conduct fuel reduction and timber stand improvement treatments in plantations.

Scoping Process

Public participation will be especially important at several points during the analysis. The Forest Service will be seeking information, comments, and assistance from the Federal, State, and local agencies and other individuals or organizations who may be interested in or affected by the proposed action. To facilitate public participation, information about the proposed action will be mailed to all who express interest in the proposed action and notification of the public scoping period will be published in the Mountain Democrat, Placerville, CA.

Comments submitted during the scoping process should be in writing and should be specific to the proposed action. The comments should describe as clearly and completely as possible any issues the commenter has with the proposal. The scoping process includes: (1) Identifying the potential issues; (2) Identifying issues to be analyzed in depth; (3) Eliminating nonsignificant issues or those previously covered by a relevant previous environmental analysis; (4) Exploring additional alternatives; and, (5) Identifying potential environmental effects of the proposed action and alternatives.

Comment Requested

This notice of intent initiates the scoping process which guides the development of the environmental impact statement.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 comment period so that comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: September 29, 2006.
Timothy A. Dabney,
Georgetown District Ranger.

[FR Doc. 06-8557 Filed 10-6-06; 8:45 am]

BILLING CODE 3410-11-M